INTERNATIONAL TRADE COMMISSION

[Investigation No. 332-491]

China: Government Policies Affecting U.S. Trade in Selected Sectors

AGENCY: United States International Trade Commission.

ACTION: Notice of addition of case studies on the semi-fabricated copper and brass products sector and paper sector in China; request for information and views from interested parties.

SUMMARY: In its notice announcing institution of this investigation, the Commission indicated that its report would include case studies on industry sectors in China in which government policies and interventions are prevalent, and the notice identified seven industry sectors that would be the subject of such case studies. After receiving and considering public comment and input from other government agencies regarding possible additional case studies, the Commission has decided to include case studies on two additional industry sectors in China, the semi-fabricated copper and brass products sector, and the paper sector.

DATES: February 1, 2008: Deadline for filing written submissions. July 29, 2008: Transmittal of Commission report to the Committee on Ways and Means.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project leaders Joanne Guth (202-205-3264 or joanne.guth@usitc.gov) or Deborah McNay (202-205-3425 or deborah.mcnay@usitc.gov) for information on the investigation. For information on the legal aspects of the investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background

The investigation is being conducted at the request of the Committee on Ways and Means of the U.S. House of Representatives. In its letter of May 23, 2007, the Committee requested that the Commission's report include, among other things, case studies on sectors in China where government policies and interventions are prevalent, and identified seven such sectors: The semiconductor, telecom, banking, textiles and apparel, steel, automotive parts, and aircraft sectors. The Committee also directed that the Commission seek public comment and input from other government agencies on other sectors that should be included as case studies. Notice of institution and the scheduling of a public hearing (which was held on October 30, 2007) was published in the Federal Register of July 31, 2007 (72 FR 41773).

Written Submissions

All written submissions should be addressed to the Secretary, and should be received not later than 5:15 p.m., February 1, 2008. All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed, in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In its request letter, the Committee stated that it intends to make the Commission's report available to the public in its entirety, and asked that the Commission not include any confidential business information or national security classified information in the report it sends to the Committee. Any confidential business information received by the Commission in this investigation and used in preparing this report will not be published in a manner that would reveal the operations of the firm supplying the information.

Issued: November 15, 2007.
By order of the Commission.
Marilyn R. Abbott,
Secretary to the Commission.

[FR Doc. E7-22667 Filed 11-20-07; 8:45 am]

BILLING CODE 7020-02-P